FARM CREDIT ADMINISTRATION

Farm Credit Administration Board; Amendment to Sunshine Act Meeting

AGENCY: Farm Credit Administration.

SUMMARY: Pursuant to the Government in the Sunshine Act (5 U.S.C. 552b(e)(3)), the Farm Credit Administration gave notice on February 9, 2004 (69 FR 5986) of the special meeting of the Farm Credit Administration Board (Board) scheduled for February 10, 2004. This notice is to amend the agenda by moving three open session items to the closed session of that meeting.

FOR FURTHER INFORMATION CONTACT: Jeanette C. Brinkley, Secretary to the Farm Credit Administration Board, (703) 883-4009, TTY (703) 883-4056.

ADDRESSES: Farm Credit Administration, 1501 Farm Credit Drive, McLean, Virginia 22102-5090.

SUPPLEMENTARY INFORMATION: Parts of this meeting of the Board were open to the public (limited space available), and parts of this meeting were closed to the public. In order to increase the accessibility to Board meetings, persons requiring assistance should make arrangements in advance. The agenda for February 10, 2004, is amended by moving the following three items to the closed session as follows:

Closed Session*

Reports

• Preferred Stock Informational Memorandum

• Syndications—OGC Legal Opinion

New Business—Other

• EEO Director Position

*Session Closed—Exempt pursuant to 5 U.S.C. 552b(c)(2), (c)(8), (c)(9), and (c)(10).

Dated: February 18, 2004.
Jeanette C. Brinkley,
Secretary, Farm Credit Administration Board.

[FR Doc. 04-3816 Filed 2-18-04; 11:47 am]

BILLING CODE 6705-01-P